DEPARTMENT OF TRANSPORTATION

National Highway Traffic Safety Administration

[Docket NHTSA-99-5087]

Safety Performance Standards Program Meeting.

AGENCY: National Highway Traffic Safety Administration, DOT.

ACTION: Notice of NHTSA rulemaking status meeting.

SUMMARY: This notice announces a public meeting at which NHTSA will answer questions from the public and the automobile industry regarding the agency's vehicle regulatory program.

DATES: The Agency's regular, quarterly public meeting relating to its vehicle regulatory program will be held on Thursday, June 15, 2000, beginning at 9:45 a.m. and ending at approximately 12:00 p.m. at the Vehicle Research and Test Center (VRTC) in East Liberty, Ohio. Questions relating to the vehicle regulatory program must be submitted in writing with a diskette (Wordperfect) by Wednesday, May 24, 2000, to the address shown below or by e-mail. If sufficient time is available, questions received after May 24, may be answered at the meeting. The individual, group or company submitting a questions(s) does not have to be present for the questions(s) to be answered. A consolidated list of the questions submitted by May 24, 2000, and the issues to be discussed, will be posted on NHTSA's web site (www.nhtsa.dot.gov) by Monday, June 12, 2000, and also will be available at the meeting. The agency will hold a second public meeting on June 15, devoted exclusively to a presentation of research and development programs. This meeting will begin at 1:30 p.m. and end at approximately 5:00 p.m.

This meeting is described more fully in a separate announcement. VRTC is gathering a list of names who will be attending the June 15, NHTSA Public Meeting, to expedite clearance into the test facility. Those of you who are attending the NHTSA Public Meeting should contact Susie Weiser at 937-666-4511 by C.O.B. June 13, 2000. The next NHTSA Public Meeting will take place on Thursday, September 14, 2000, at the Tysons Westpark Hotel, 8401 Westpark Drive, in McLean, VA.

ADDRESSES: Questions for the June 15, NHTSA Rulemaking Status Meeting, relating to the agency's vehicle regulatory program, should be submitted to Delia Lopez, NPS-01, National Highway Traffic Safety Administration, Room 5401, 400 Seventh Street, SW., Washington, DC 20590, Fax Number 202-366-4329, e-mail dlopez@nhtsa.dot.gov. The meeting will be held at the NHTSA's Research and Development, Vehicle Research and Test Center, P.O. Box 37, East Liberty, Ohio 43319. Directions to the VRTC, as well as this Federal Register notice will be also available on NHTSA's web site (www.nhtsa.dot.gov).

FOR FURTHER INFORMATION CONTACT: Delia Lopez, (202) 366-1810.

SUPPLEMENTARY INFORMATION: NHTSA holds a regular, quarterly meeting to answer questions from the public and the regulated industries regarding the agency's vehicle regulatory program. Questions on aspects of the agency's research and development activities that relate directly to ongoing regulatory actions should be submitted, as in the past, to the agency's Safety Performance Standards Office. The purpose of this meeting is to focus on those phases of NHTSA activities which are technical, interpretative or procedural in nature. Transcripts of these meetings will be available for public inspection in the DOT Docket in Washington, DC, within four weeks after the meeting. Copies of the transcript will then be available at ten cents a page, (length has varied from 80 to 150 pages) upon request to DOT Docket, Room PL-401, 400 Seventh Street, SW., Washington, DC 20590. The DOT Docket is open to the public from 10:00 a.m. to 5:00 p.m. The transcript may also be accessed electronically at http://dms.dot.gov.at docket NHTSA-99-5087. Questions to be answered at the quarterly meeting should be organized by categories to help us process the questions into an agenda form more efficiently. Sample format:

I. RULEMAKING

A. Crash avoidance

B. Crashworthiness

C. Other Rulemakings

II. CONSUMER INFORMATION

III. MISCELLANEOUS

NHTSA will provide auxiliary aids to participants as necessary. Any person desiring assistance of “auxiliary aids” (e.g., sign-language interpreter, telecommunications devices for deaf persons (TDDs), readers, taped texts, brailled materials, or large print materials and/or a magnifying device), please contact Delia Lopez on (202) 366-1810, by COB June 12, 2000.

Issued: April 18, 2000.
Stephen R. Kratzke,
Acting Associate Administrator for Safety Performance Standards.

[FR Doc. 00-9983 Filed 4-20-00; 8:45 am]

BILLING CODE 4910-59-P